DEPARTMENT OF TRANSPORTATION

Federal Aviation Administration

14 CFR Part 71

[Docket No. FAA-2016-4234; Airspace Docket No. 16-ACE-3]

Amendment of Class E Airspace for the Following Kansas Towns; Belleville, KS; Johnson, KS; Marysville, KS; Pittsburg, KS; and Washington, KS

AGENCY: Federal Aviation Administration (FAA), DOT.

ACTION: Final rule.

SUMMARY: This action modifies Class E airspace extending upward from 700 feet above the surface at Belleville Municipal Airport, Belleville, KS; Stanton County Municipal Airport, Johnson, KS; Marysville Municipal Airport, Marysville, KS; Atkinson Municipal Airport, Pittsburg, KS; and Washington County Veteran's Memorial Airport, Washington, KS. Decommissioning of non-directional radio beacons (NDBs), cancellation of NDB approaches, and implementation of area navigation (RNAV) procedures have made these actions necessary for the safety and management of Instrument Flight Rules (IFR) operations at the above airports. This action also updates the geographic coordinates at Marysville Municipal Airport, Marysville, KS; and Atkinson Municipal Airport, Pittsburg, KS; and the name of Washington County Veteran's Memorial Airport (formerly Washington County Memorial Airport) to coincide with the FAAs aeronautical database.

DATES: Effective 0901 UTC, November 10, 2016. The Director of the Federal Register approves this incorporation by reference action under Title 1, Code of Federal Regulations, part 51, subject to the annual revision of FAA Order 7400.9 and publication of conforming amendments.

ADDRESSES: FAA Order 7400.9Z, Airspace Designations and Reporting Points, and subsequent amendments can be viewed online at http://www.faa.gov/air_traffic/publications/. For further information, you can contact the Airspace Policy Group, Federal Aviation Administration, 800 Independence Avenue SW., Washington, DC 20591; telephone: 202-267-8783. The Order is also available for inspection at the National Archives and Records Administration (NARA). For information on the availability of FAA Order 7400.9Z at NARA, call 202-741-6030, or go to http://www.archives.gov/federal_register/code_of_federal-regulations/ibr_locations.html.

FAA Order 7400.9, Airspace Designations and Reporting Points, is published yearly and effective on September 15.

FOR FURTHER INFORMATION CONTACT: Jeffrey Claypool, Federal Aviation Administration, Operations Support Group, Central Service Center, 10101 Hillwood Parkway, Fort Worth, TX 76177; telephone (817) 222-5711.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends Class E airspace at Belleville Municipal Airport, Belleville, KS; Stanton County Municipal Airport, Johnson, KS; Marysville Municipal Airport, Marysville, KS; Atkinson Municipal Airport, Pittsburg, KS; and Washington County Veteran's Memorial Airport, Washington, KS.

History

On March 29, 2016, the FAA published in the Federal Register a notice of proposed rulemaking (NPRM) to modify Class E airspace at Belleville Municipal Airport, Belleville, KS; Stanton County Municipal Airport, Johnson, KS; Marysville Municipal Airport, Marysville, KS; Atkinson Municipal Airport, Pittsburg, KS; and Washington County Veteran's Memorial Airport, Washington, KS (81 FR 17420) Docket No. FAA-2016-4234. Interested parties were invited to participate in this rulemaking effort by submitting written comments on the proposal to the FAA. No comments were received. Subsequent to publication, the FAA found an editorial error in the legal description for Marysville, KS; and the name of the town in the airspace designation and legal description for Atkinson Municipal Airport. These errors are corrected in this rule.

Class E airspace designations are published in paragraph 6005 of FAA Order 7400.9Z, dated August 6, 2015, and effective September 15, 2015, which is incorporated by reference in 14 CFR 71.1. The Class E airspace designations listed in this document will be published subsequently in the Order.

Availability and Summary of Documents for Incorporation by Reference

This document amends FAA Order 7400.9Z, Airspace Designations and Reporting Points, dated August 6, 2015, and effective September 15, 2015. FAA Order 7400.9Z is publicly available as listed in the ADDRESSES section of this document. FAA Order 7400.9Z lists Class A, B, C, D, and E airspace areas, air traffic service routes, and reporting points.

The Rule

This amendment to Title 14, Code of Federal Regulations (14 CFR) part 71 modifies Class E airspace extending upward from 700 feet above the surface by removing the approach extensions at Belleville Municipal Airport, Belleville, KS; Stanton County Municipal Airport, Johnson, KS; Marysville Municipal Airport, Marysville, KS; and Atkinson Municipal Airport, Pittsburg, KS, due to decommissioning of NDBs, removal of NDB approaches, and the implementation of RNAV standard instrument approach procedures at the airports. Also, controlled airspace at Washington County Veteran's Memorial Airport is reduced from a 7.3-mile radius to a 6.3-mile radius of the airport. This action also updates the geographic coordinates of Marysville Municipal Airport, Marysville, KS, and Atkinson Municipal Airport, Pittsburg, KS, as well as noting the correct town for Atkinson Municipal Airport. Additionally, this action notes the name of Washington County Veteran's Memorial Airport (formerly Washington County Memorial Airport) to coincide with the FAAs aeronautical database. This rule is necessary for the safety and management of IFR operations under standard instrument approach procedures at the above airports.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a Regulatory Evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.9Z, Airspace Designations and Reporting Points, dated August 6, 2015, and effective September 15, 2015, is amended as follows:

Paragraph 6005 Class E Airspace Areas Extending Upward From 700 Feet or More Above the Surface of the Earth.

* * * * *

ACE KS E5 Belleville, KS [Amended]

Belleville Municipal Airport, KS

(Lat. 39°49′04″ N., long. 97°39′35″ W.)

That airspace extending upward from 700 feet above the surface within a 6.4-mile radius of Belleville Municipal Airport.

* * * * *

ACE KS E5 Johnson, KS [Amended]

Stanton County Municipal Airport, KS

(Lat. 37°35′07″ N., long. 101°43′56″ W.)

That airspace extending upward from 700 feet above the surface within a 6.6-mile radius of Stanton County Municipal Airport.

* * * * *

ACE KS E5 Marysville, KS [Amended]

Marysville Municipal Airport, KS

(Lat. 39°51′23″ N., long. 96°37′51″ W.)

That airspace extending upward from 700 feet above the surface within a 6.5-mile radius of Marysville Municipal Airport.

* * * * *

ACE KS E5 Pittsburg, KS [Amended]

Pittsburg, Atkinson Municipal Airport, KS

(Lat. 37°26′58″ N., long. 94°43′52″ W.)

That airspace extending upward from 700 feet above the surface within a 6.6-mile radius of Atkinson Municipal Airport.

* * * * *

ACE KS E5 Washington, KS [Amended]

Washington County Veteran's Memorial Airport, KS

(Lat. 39°44′07″ N., long. 97°02′51″ W.)

That airspace extending upward from 700 feet above the surface within a 6.3-mile radius of Washington County Veteran's Memorial Airport.

Issued in Fort Worth, Texas, on June 22, 2016.
Walter Tweedy,
Acting Manager, Operations Support Group, ATO Central Service Center.

[FR Doc. 2016-15406 Filed 6-30-16; 8:45 am]

BILLING CODE 4910-13-P